DEPARTMENT OF THE TREASURY

Privacy Act of 1974, as Amended; System of Records

AGENCY: Department of the Treasury.

ACTION: Notice of proposed privacy act system of records.

SUMMARY: In accordance with the requirements of the Privacy Act of 1974, as amended, 5 U.S.C. 552a, the Department of the Treasury gives notice of a proposed system of records entitled “Treasury .011—Treasury Safety Incident Management Information System.”

DATES: Comments must be received no later than September 17, 2001. The proposed system of records will be effective September 25, 2001, unless the Department receives comments that would result in a contrary determination.

ADDRESSES: Comments should be sent to the Office of Asset Management, Department of the Treasury, 1310 G Street NW, Suite 400W, Washington, DC 20220.

FOR FURTHER INFORMATION CONTACT: Carolyn Austin-Diggs, Director, Office of Asset Management, (202) 622-0500. Fax: (202) 622-1468.

SUPPLEMENTARY INFORMATION: The Department of the Treasury is giving notice of the new system of records which is subject to the Privacy Act. The proposed system of records will maintain Treasury-wide information of incidents involving occupational illnesses, injuries and near-misses to Treasury employees and contractors. The system will also maintain records on such incidents for members of the public while on federal property as well. Further, the system will maintain files of environmental incidents, government vehicle accidents, property losses (such as fires, weather related, earthquakes, etc.), and tort claims.

The new system of records report, as required by 5 U.S.C. 552a(r), has been submitted to the Committee on Government Reform and Oversight of the House of Representatives, the Committee on Government Affairs of the Senate, and the Office of Management and Budget, pursuant to Appendix I to OMB Circular A-130, Federal Agency Responsibilities for Maintaining Records About Individuals, dated February 8, 1996.

The proposed system of records, Treasury .011—Treasury Safety Incident Management Information System, is published in its entirety below.

Dated: August 8, 2001.
W. Earl Wright, Jr.,
Chief Management and Administrative Programs Officer.

Treasury .011

System Name:

Treasury Safety Incident Management Information System (SIMIS)—Treasury

System location:

Department of the Treasury, 1500 Pennsylvania Ave., NW, Washington, DC 20220. Other locations at which the system is maintained by Treasury components and their associated field offices are:

(1)a. Departmental Offices (DO): 1500 Pennsylvania Ave., NW, Washington, DC 20220.

b. Financial Crimes Enforcement Network (FinCEN): 2070 Chain Bridge Road, Vienna, VA 22182.

c. The Office of Inspector General (OIG): 740 15th Street, NW, Washington, DC 20220.

d. Treasury Inspector General for Tax Administration (TIGTA): 1111 Constitution Ave., NW, Washington, DC 20224.

e. Community Development Financial Institutions Fund (CDFI): 601 13th Street, NW, Washington, DC 20005.

(2) Bureau of Alcohol, Tobacco and Firearms (ATF): 650 Massachusetts Avenue, NW, Washington, DC 20226.

(3) Office of the Comptroller of the Currency (OCC): 250 E Street, SW, Washington, DC 20219-0001.

(4) United States Customs Service (CS): 1300 Pennsylvania Avenue, NW, Washington, DC 20229.

(5) Bureau of Engraving and Printing (BEP): 14th & C Streets, SW, Washington, DC 20228.

(6) Federal Law Enforcement Training Center (FLETC): Glynco, GA 31524.

(7) Financial Management Service (FMS): 401 14th Street, SW, Washington, DC 20227.

(8) Internal Revenue Service (IRS): 1111 Constitution Avenue, NW, Washington, DC 20224.

(9) United States Mint (MINT): 801 9th Street, NW, Washington, DC 20220.

(10) Bureau of the Public Debt (BPD): 200 Third Street, Parkersburg, WV 26101.

(11) United States Secret Service (USSS): 950 H Street, NW, Washington, DC 20001.

(12) Office of Thrift Supervision (OTS): 1700 G Street, NW, Washington, DC 20552.

Categories of Individuals Covered by the System:

Current and past Treasury employees and contractors who are injured on Department of the Treasury property or while in the performance of their duties offsite. Members of the public who are injured on Department of the Treasury property are also included in the system.

Categories of Records in the System:

Records in this system pertain to medical injuries and occupational illnesses of employees which include social security numbers, full names, job titles, government and home addresses (city, state, zip code), home telephone numbers, work telephone numbers, work shifts, location codes, and gender. Mishap information on environmental incidents, vehicle accidents, property losses and tort claims will be included also. In addition, there will be records such as results of investigations, corrective actions, supervisory information, safety representatives names, data as to chemicals used, processes affected, causes of losses, etc. Records relating to contractors include full name, job title, work addresses (city, state, zip code), work telephone number, location codes, and gender. Records pertaining to a member of the public include full name, home address (city, state, zip code), home telephone number, location codes and gender. (Official compensation claim file, maintained by the Department of Labor's Office of Workers' Compensation Programs (OWCP), is part of that agency's system of records and not covered by this notice.)

Authority for Maintenance of the System:

5 U.S.C. 301, Executive Order 12196, section 1-2.

Purposes(s):

This system of records supports the development and maintenance of a Treasury-wide incident tracking and reporting system and will make it possible to streamline a cumbersome paper process. Current web technology will be employed and facilitate obtaining real-time data and reports related to injuries and illnesses. As an enterprise system for the Department and its component bureaus, incidents analyses can be performed instantly to affect a more immediate implementation of corrective actions and to prevent future occurrences. Information pertaining to past and all current employees and contractors injured on Treasury property or while in the performance of their duties offsite, as well as members of the public injured while on Federal property, will be gathered and stored in SIMIS. This data will be used for analytical purposes such as trend analysis, and the forecasting/projecting of incidents. The data will be used to generate graphical reports resulting from the analyses.

Routine Uses of Records Maintained in the System, Including Categories of Users and the Purposes of Such Uses:

These records may be used to:

(1) Disclose pertinent information to appropriate Federal, State, local, or foreign agencies, or other public authority responsible for investigating or prosecuting the violations of, or for enforcing or implementing a statute, rule, regulation, order, or license, where the disclosing agency becomes aware of an indication of a violation or potential violation of civil or criminal law or regulation;

(2) Disclose pertinent information to the Department of Justice for the purpose of litigating an action or seeking legal advice;

(3) Disclose information to the Office of Workers' Compensation Programs, Department of Labor, which is responsible for the administration of the Federal Employees' Worker Compensation Act (FECA);

(4) Disclose information to a Federal, State, local, or other public authority maintaining civil, criminal or other relevant enforcement information or other pertinent information, which has requested information relevant to or necessary to the requesting agency's, bureau's, or authority's hiring or retention of an individual, or issuance of a security clearance, license, contract, grant, or other benefit;

(5) Disclose information in a proceeding before a court, adjudicative body, or other administrative body before which the Department of the Treasury (agency) is authorized to appear when: (a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(6) Disclose information to a congressional office in response to an inquiry made at the request of the individual to whom the record pertains;

(7) Disclose information to a contractor for the purpose of processing administrative records and/or compiling, organizing, analyzing, programming, or otherwise refining records subject to the same limitations applicable to U.S. Department of the Treasury officers and employees under the Privacy Act;

(8) Disclose information to a court, magistrate, or administrative tribunal in the course of presenting evidence, including disclosures to opposing counsel or witnesses in the course of civil discovery, litigation, or settlement negotiations or in connection with criminal law proceedings or in response to a subpoena where relevant or potentially relevant to a proceeding;

(9) Disclose information to unions recognized as exclusive bargaining representatives under 5 U.S.C. chapter 71, arbitrators, and other parties responsible for the administration of the Federal labor-management program if needed in the performance of their authorized duties;

(10) Disclose information to the Equal Employment Opportunity Commission, Merit Systems Protection Board, arbitrators, the Federal Labor Relations Authority, and other parties responsible for the administration of the Federal labor management program for the purpose of processing any corrective actions or grievances or conducting administrative hearings or appeals, or if needed in the performance of other authorized duties;

(11) Disclose information to a Federal, State, or local public health service agency as required by applicable law, concerning individuals who have contracted or who have been exposed to certain communicable diseases or conditions. Such information is used to prevent further outbreak of the disease or condition;

(12) Disclose information to representatives of the General Services Administration (GSA) or the National Archives and Records Administration (NARA) who are conducting records management inspections under authority of 44 U.S.C. 2904 and 2906.

Policies and Practices for Storing, Retrieving, Accessing, Retaining, and Disposing of Records in the System:

Storage:

Maintained in hardcopy and electronic media.

Retrievability:

Records can be retrieved by name, or by categories listed above under “Categories of records in the system.”

Safeguards:

Protection and control of any sensitive but unclassified (SBU) records are in accordance with TD P 7110, Department of the Treasury Security Manual. The hardcopy files and electronic media are secured in locked rooms. Access to the records is available only to employees responsible for the management of the system and/or employees of program offices who have a need for such information and have been subject to a background check and/or security clearance.

Retention and Disposal:

Records are retained and disposed of in accordance with the appropriate National Archives and Records Administration General Records Schedule No. 1.

System Manager(s) and Address:

Department of the Treasury official prescribing policies and practices: Director, Office of Safety, Health and Environment, Department of the Treasury, Washington, DC 20220.

The system managers for the Treasury components are:

1. (a) DO: Safety and Occupational Health Manager, 1500 Pennsylvania Avenue, Room 1400 Annex, NW, Washington , DC 20220.

(b) FinCEN: Safety and Occupational Health Manager, 2070 Chain Bridge Road, Vienna, VA 22182.

(c) OIG: Safety and Occupational Health Manager, 740 15th Street, NW, Washington, DC 20220.

(d) TIGTA: Safety and Occupational Health Manager, 1111 Constitution Ave., NW, Washington, DC 20224.

(e) CDFI: Safety and Occupational Health Manager, 601 13th Street, NW, Washington, DC 20005.

2. ATF: Safety and Occupational Health Manager, 650 Massachusetts Avenue, NW, Washington, DC 20226.

3. OCC: Safety and Occupational Health Manager, 250 E Street, SW, Washington, DC 20219-0001.

4. CS: Safety and Occupational Health Manager, 1300 Pennsylvania Avenue, NW, Washington, DC 20229.

5. BEP: Safety and Occupational Health Manager, 14th & C Streets, SW, Washington, DC 20228.

6. FLETC: Safety and Occupational Health Manager, Glynco, GA, 31524.

7. FMS: Safety and Occupational Health Manager, PG 3700 East-West Highway, Hyatsville, MD 20782.

8. IRS: Safety and Occupational Health Manager, 1111 Constitution Avenue, NW, Washington, DC 20224.

9. MINT: Safety and Occupational Health Manager, 801 9th Street, NW, Washington, DC 20220.

10. BPD: Safety and Occupational Health Manager, 200 Third Street, Parkersburg, WV 26101.

11. USSS: Safety and Occupational Health Manager, 950 H Street, NW, Washington, DC 20001.

12. OTS: Safety and Occupational Health Manager, 1700 G Street, NW, Washington, DC 20552.

Notification Procedure:

Individuals seeking notification and access to any record contained in the system of records, or seeking to contest its content, may inquire in accordance with instructions pertaining to individual Treasury components appearing at 31 CFR part 1, subpart C, appendices, A-L.

Record Access Procedures:

See “Notification Procedures” above.

Contesting Record Procedures:

See “Notification Procedures” above.

Record Source Categories:

Information is obtained from current Treasury employees, contractors, members of the public, witnesses, medical providers, and relevant industry experts.

Exemptions Claimed for the System:

None.

[FR Doc. 01-20646 Filed 8-15-01; 8:45 am]

BILLING CODE 4811-16-P